DEPARTMENT OF ENERGY

Federal Energy Regulatory Commission

Combined Notice of Filings #1

Take notice that the Commission received the following exempt wholesale generator filings:

Docket Numbers: EG22-130-000.

Applicants: Madison Fields Solar Project, LLC.

Description: Madison Fields Solar Project, LLC submits Notice of Self-Certification of Exempt Wholesale Generator Status.

Filed Date: 5/24/22.

Accession Number: 20220524-5088.

Comment Date: 5 p.m. ET 6/14/22.

Docket Numbers: EG22-131-000.

Applicants: Marion County Solar Project, LLC.

Description: Marion County Solar Project, LLC submits Notice of Self-Certification of Exempt Wholesale Generator Status.

Filed Date: 5/24/22.

Accession Number: 20220524-5091.

Comment Date: 5 p.m. ET 6/14/22.

Take notice that the Commission received the following electric rate filings:

Docket Numbers: ER10-2474-025; ER10-2475-026; ER10-3246-019; ER13-1266-037; ER15-2211-034; ER10-2984-054.

Applicants: Merrill Lynch Commodities, Inc., MidAmerican Energy Services, LLC, CalEnergy, LLC, PacifiCorp, Nevada Power Company, Sierra Pacific Power Company.

Description: Supplement to March 3, 2022 Notice of Non-Material Change in Status of Sierra Pacific Power Company, et al.

Filed Date: 5/19/22.

Accession Number: 20220519-5173.

Comment Date: 5 p.m. ET 6/9/22.

Docket Numbers: ER22-108-002.

Applicants: Southwest Power Pool, Inc.

Description: Compliance filing: Compliance Filing—Modify Minimum Capitalization Requirements to be effective 4/30/2022.

Filed Date: 5/24/22.

Accession Number: 20220524-5090.

Comment Date: 5 p.m. ET 6/14/22.

Docket Numbers: ER22-1945-000.

Applicants: Bracewell LLP, Powells Creek Farm Solar, LLC.

Description: Baseline eTariff Filing: Bracewell LLP submits tariff filing per 35.12: Application for Market-Based Rate Authorization, Request for Related Waivers to be effective 8/1/2022.

Filed Date: 5/23/22.

Accession Number: 20220523-5163.

Comment Date: 5 p.m. ET 6/13/22.

Docket Numbers: ER22-1946-000.

Applicants: Southwest Power Pool, Inc.

Description: § 205(d) Rate Filing: 3951 Kiowa County Solar Project GIA to be effective 4/28/2022.

Filed Date: 5/24/22.

Accession Number: 20220524-5065.

Comment Date: 5 p.m. ET 6/14/22.

Docket Numbers: ER22-1947-000.

Applicants: Switched On, LLC.

Description: Tariff Amendment: Cancellation entire tariff to be effective 5/25/2022.

Filed Date: 5/24/22.

Accession Number: 20220524-5095.

Comment Date: 5 p.m. ET 6/14/22.

Take notice that the Commission received the following public utility holding company filings:

Docket Numbers: PH22-14-000.

Applicants: Macquarie Infrastructure Holdings, LLC.

Description: Macquarie Infrastructure Holdings, LLC submits FERC 65-A Exemption Notification.

Filed Date: 5/24/22.

Accession Number: 20220524-5106.

Comment Date: 5 p.m. ET 6/14/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 24, 2022.
Debbie-Anne A. Reese,
Deputy Secretary.

[FR Doc. 2022-11624 Filed 5-27-22; 8:45 am]

BILLING CODE 6717-01-P